DEPARTMENT OF TRANSPORTATION

Surface Transportation Board

[STB Finance Docket No. 34251]

Elk River Railroad, Inc.—Acquisition and Operation Exemption—Line of CSX Transportation, Inc.

Elk River Railroad, Inc. (TERRI), a Class III railroad, has filed a verified notice of exemption under 49 CFR 1150.41 to acquire from CSX Transportation, Inc. (CSXT) and operate a 61.1-mile rail line known as the Elk River Subdivision between milepost 6.2, at or near Gilmer, and milepost 67.3, at or near Hartland, in Gilmer, Braxton, and Clay Counties, WV.¹

¹ TERRI states that it currently leases the line from CSXT and operates it. See The Elk River Railroad, Inc.—Lease, Operation and Acquisition Exemption—Line of CSX Transportation, Inc., Finance Docket No. 31497 (ICC served July 26, 1989). According to TERRI it intends to exercise its option to purchase the involved property pursuant to the lease dated August 1, 1989.

TERRI certifies that its projected revenues as a result of this transaction will not result in the creation of a Class II or Class I rail carrier.

TERRI states that it intends to consummate the transaction on or about September 13, 2002. The exemption will not be effective until September 19, 2002, (7 days after the exemption was filed).

If the verified notice contains false or misleading information, the exemption is void ab initio. Petitions to revoke the exemption under 49 U.S.C. 10502(d) may be filed at any time. The filing of a petition to revoke does not automatically stay the transaction.

An original and 10 copies of all pleadings, referring to STB Finance Docket No. 34251, must be filed with the Surface Transportation Board, 1925 K Street, NW., Washington, DC 20423-0001. In addition, one copy of each pleading must be served on F.T. Graff, Bowles Rice McDavid Graff & Love, PLLC, 600 Quarrier Street, Charleston, WV 26301.

Board decisions and notices are available on our Web site at WWW.STB.DOT.GOV.

Decided: September 16, 2002.
By the Board, David M. Konschnik, Director, Office of Proceedings.
Vernon A. Williams,
Secretary.

[FR Doc. 02-23951 Filed 9-23-02; 8:45 am]

BILLING CODE 4915-00-P